COMMISSION ON CIVIL RIGHTS

Sunshine Act Notice

Date and Time: Friday, February 9, 2007. 9 a.m.

Place: U.S. Commission on Civil Rights, 624 Ninth Street, NW., Rm. 540, Washington, DC 20425.

Commission Meeting: U.S. Commission on Civil Rights, Friday, February 9, 2007, 624 Ninth Street, NW., Rm. 540, Washington, DC 20425, 9 a.m.

Meeting Agenda

I. Approval of Agenda.

II. Approval of Minutes of January 26 Meeting.

III. Announcements.

IV. Staff Director's Report.

V. Management and Operations:

• Quality Information Guidelines.

VI. Program Planning:

• Program Planning FY 2009.

• Affirmative Action in Law Schools Briefing Report.

• Domestic Wiretapping.

VII. State Advisory Committee Issues:

• Alabama SAC.

VIII. Future Agenda Items.

IX. Adjourn.

Dated: January 30, 2007.
David Blackwood,
General Counsel.

[FR Doc. 07-465 Filed 1-30-07; 2:49 pm]

BILLING CODE 6335-01-P